ENVIRONMENTAL PROTECTION AGENCY

40 CFR Part 52

[LA-61-2-7566; FRL-7382-7]

Approval and Promulgation of Air Quality State Implementation Plans; Louisiana: Motor Vehicle Inspection and Maintenance Program

AGENCY: Environmental Protection Agency (EPA).

ACTION: Final rule.

SUMMARY: The EPA is approving a State Implementation Plan (SIP) revision submitted by the State of Louisiana establishing a Vehicle Inspection and Maintenance (I/M) Program for the Baton Rouge nonattainment area. EPA proposed approval of the I/M SIP revision on July 2, 2002. The program consists of On-Board Diagnostic (OBD) testing for all 1996 and newer vehicles, plus antitampering and a gas cap pressure test for all applicable vehicles.

Final approval of this SIP will eliminate the sanction clock that was stayed on August 10, 1999, with an interim final determination that the State had more likely than not cured the deficiencies that prompted the original disapproval.

Pursuant to section 553(d) of the Administrative Procedure Act, EPA finds good cause to make this action effective immediately.

DATES: This final rule is effective on September 26, 2002.

ADDRESSES: Copies of the documents relevant to this action are available for public inspection during normal business hours at the following locations. Persons interested in examining these documents should make an appointment with the appropriate office at least 24 hours before the visiting day.

Environmental Protection Agency, Region 6, Air Planning Section (6PD-L), 1445 Ross Avenue, Suite 700, Dallas, Texas 75202-2733.

Louisiana Department of Environmental Quality, Air Quality Compliance Division, 7290 Bluebonnet, 2nd Floor, Baton Rouge, Louisiana.

FOR FURTHER INFORMATION CONTACT: Ms. Sandra G. Rennie, Air Planning Section (6PD-L), EPA Region 6, 1445 Ross Avenue, Dallas, Texas 75202-2733, telephone (214)665-7367.

SUPPLEMENTARY INFORMATION: Throughout this document “we,” “us,” and “our” means EPA.

What Action Is EPA Taking Today?

We are granting final approval of Louisiana's vehicle I/M program. The program applies to the five parish Baton Rouge nonattainment area. EPA proposed approval of the Louisiana I/M SIP revision on July 2, 2002 (67 FR 44410).

Section 553(d) of the Administrative Procedure Act generally provides that rules may not take effect earlier than 30 days after they are published in the Federal Register. However, if an Agency identifies a good cause, section 553(d)(3) allows a rule to take effect earlier, provided that the Agency publishes its reasoning in the final rule. EPA is making this action effective immediately because this rule is related to the Baton Rouge 1-hour ozone Attainment Plan and Transport State Implementation Plan, on which the EPA intends to take imminent action (see 67 FR 50391, August 2, 2002). In conjunction with its August 2, 2002, proposed approval of the attainment demonstration, EPA proposed to extend the ozone attainment date for the BR area to November 15, 2005, while retaining the area's current classification as a serious ozone nonattainment area and to withdraw EPA's June 24, 2002, rulemaking determining nonattainment and reclassification of the BR area (67 FR 42687). The effective date of EPA's June 24, 2002, nonattainment determination and reclassification is imminent. Furthermore, making this action effective immediately does not impose any additional requirements, because the underlying regulations are already effective under state law.

What Are the Clean Air Act Requirements?

EPA approval of this SIP revision is governed by sections 110 and 182 of the Act.

An I/M program is required in the Baton Rouge area because it is classified serious nonattainment for ozone and the population exceeds 200,000. The SIP credits are not taken for the I/M plan in the 15% Rate-of-Progress (ROP) Plan or the 9% ROP plan. However, SIP credits are taken for the I/M plan in the attainment demonstration. Additional information on these actions can be found in EPA's proposed approval of the Reasonable-Further-Progress Plan for the 1996-1999 Period in 63 FR 44192 dated August 18, 1998, and in the proposed approval of the attainment demonstration published in 67 FR 50391.

Why Is EPA Taking This Action?

We are taking this action because the State submitted an approvable enhanced vehicle I/M program SIP for the nonattainment area requiring a program.

What Effect Does This Action Have on the Sanction Clock That Was Stayed on August 10, 1999?

Final approval of the I/M SIP turns off the sanction clock that was started on February 13, 1998, the effective date of a disapproval of the I/M SIP revision submitted in 1996.

On August 20, 1999 (64 FR 45454), we published an interim final determination that the State had more likely than not corrected the deficiency that prompted the original disapproval of the Louisiana I/M SIP. We delayed taking final action on the I/M SIP submitted February 12, 1999, because EPA was in the process of amending the Federal I/M rule, and final approval of that SIP depended on the Federal I/M rule amendments.

Today's approval action is a result of the State submitting a revised I/M SIP on December 28, 2001, which is fully approvable. Today's final approval of the I/M SIP will turn off the sanction clock because the inadequacy that started the clock has been corrected to EPA's satisfaction.

What Does the State's I/M Program Include?

The State's program requires that all 1980 and newer gasoline powered light-duty vehicles and light and heavy-duty trucks, that are registered or required to be registered in the five parish Baton Rouge nonattainment area, including fleets, are subject to annual inspection and testing.

All vehicles in the I/M program are subject to a gas cap pressure check and an antitampering inspection. In addition, all 1996 and newer vehicles will be tested with OBD.

What Did the State Submit?

The State adopted I/M SIP revision was submitted on December 28, 2001. The SIP contains a SIP narrative, I/M Rules, and several appendices including the Department of Public Safety (DPS) Manual addressing the requirements of the I/M program. The submittal is intended to fulfill the requirements of the Act for the ozone nonattainment area of Louisiana that is required to implement an I/M program.

What Comments Did EPA Receive in Response to the Proposed Rules?

No adverse comments were received. Comments in support of the I/M program were received from the Baton Rouge Clean Air Coalition and the Steering Committee of the Baton Rouge Ozone Task Force. We thank these planners for their positive comments.

EPA's Rulemaking Action

We are granting final full approval of Louisiana I/M program pursuant to sections 110 and 182 of the Act.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 25, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Intergovernmental relations, Nitrogen dioxide, Ozone, Particulate matter, Reporting and recordkeeping requirements, Sulfur oxides, Volatile organic compounds.

Dated: September 17, 2002.
Lynda F. Carroll,
Acting Regional Administrator, Region 6.

Part 52, chapter I, title 40 of the Code of Federal Regulations is amended as follows:

PART 52—[AMENDED]

1. The authority citation for part 52 continues to read as follows:

Authority: 42 U.S.C. 7401 et seq.

Subpart T—Louisiana

2. The table in § 52.970(c) entitled “EPA Approved Louisiana Regulations in the Louisiana SIP,” is amended by adding to the end of the table, immediately following Section 6523, the centered heading “LAC Title 55. Public Safety Part III. Motor Vehicles” immediately followed by center heading “Chapter 8. Motor Vehicle Inspection” followed by entries for Sections 801 to 835 to read as follows:

§ 52.970 Identification of plan.

* * * * *

(c) * * *

EPA Approved Louisiana Regulations in the Louisiana SIP
State citation | Title/subject | State submittal/approval date | EPA approval date | Comments
* * * * * * *
LAC Title 55. Part III. Motor Vehicles, Chapter 8. Motor Vehicle Inspections
Subchapter A. General
Section 801 | Definitions | Dec. 1999, LR 25:2421 | September 26, 2002 [67 FR 60594] |
Section 803 | Forward | Dec. 1999, LR 25:2421 | September 26, 2002 [67 FR 60594] |
Subchapter B. Safety Inspections
Section 805 | Requirements, Duties, Responsibilities | Dec. 2001, LR 27:2260 | September 26, 2002 [67 FR 60594] |
Section 807 | Operation as an Official Motor Vehicle Inspection Station | Dec. 2001, LR 27:2260 | September 26, 2002 [67 FR 60594] |
Section 809 | General Inspection Requirements | Dec. 1999, LR 25:2426 | September 26, 2002 [67 FR 60594] |
Section 811 | Inspection Procedures | Dec. 1999, LR 25:2427 | September 26, 2002 [67 FR 60594] |
Section 813 | Required Equipment | Dec. 1999, LR 25:2428 | September 26, 2002 [67 FR 60594] |
Section 815 | Miscellaneous Inspection Procedures | Dec. 1999, LR 25:2433 | September 26, 2002 [67 FR 60594] |
Subchapter C. Vehicle Emission Inspection and Maintenance Program
Section 817 | General Information | Dec. 1999, LR 25:2433 | September 26, 2002 [67 FR 60594] |
Section 819 | Anti-tampering and Inspection and Maintenance Parameters | Dec. 2001, LR 27:2260 | September 26, 2002 [67 FR 60594] |
Subchapter E. Administrative and Audit Procedures
Section 833 | Investigations; Administrative Actions; Sanctions | Dec. 2001, LR 27:2260 | September 26, 2002 [67 FR 60594] |
Section 835 | Declaratory Orders and Rulings | Dec. 1999, LR 25:2442 | September 26, 2002 [67 FR 60594] |

* * * * *

[FR Doc. 02-24338 Filed 9-25-02; 8:45 am]

BILLING CODE 6560-50-P